Title 3—

The President

Memorandum of October 14, 2020

Delegation of Authority Under Section 404(c) of the Child Soldiers Prevention Act of 2008

Memorandum for the Secretary of State

By the authority vested in me as President by the Constitution and the laws of the United States of America, including section 301 of title 3, United States Code, I hereby delegate to the Secretary of State the authority under section 404(c)(1)of the Child Soldiers Prevention Act of 2008 (CSPA)(22 U.S.C. 2370c-1 (c)(1)), to waive the application of the prohibition in section 404(a)of the CSPA with respect to Sudan and Mali, and to make the determinations and certifications necessary for such waivers. I hereby also delegate to the Secretary of State the authority under section 404(c)(2) of the CSPA to notify the appropriate congressional committees of such waivers and the accompanying Memorandum of Justification for such waivers.

You are hereby authorized and directed to publish this memorandum in the Federal Register.

THE WHITE HOUSE,

Washington, October 14, 2020

[FR Doc. 2020-24246

Filed 10-29-20; 8:45 am]

Billing code 4710-10-P